DEPARTMENT OF LABOR

Office of Federal Contract Compliance Programs

41 CFR Part 60-1

RIN 1250-AA03

Government Contractors, Requirement To Report Summary Compensation Data on Employee Compensation

AGENCY: Office of Federal Contract Compliance Programs, Labor.

ACTION: Notice of proposed rulemaking and extension of comment period.

SUMMARY: On August 8, 2014, the Office of Federal Contract Compliance Programs (OFCCP) published a notice of proposed rulemaking (NPRM) in the Federal Register. This NPRM proposes amending one of the implementing regulations for Executive Order 11246, Equal Employment Opportunity, which sets forth the reporting obligations of Federal contractors and subcontractors. This NPRM proposes amending the regulation by adding a requirement that certain Federal contractors and subcontractors supplement their Employer Information Report (EEO-1 Report) with summary information on compensation paid to employees, as contained in the Form W-2 Wage and Tax Statement (W-2) forms, by sex, race, ethnicity, and specified job categories, as well as other relevant data points such as hours worked, and the number of employees.

This document extends the comment period for the proposed rule for sixty (60) days. You do not need to resubmit your comment if you have already commented on the proposed rule. Should you choose to do so, you can submit additional or supplemental comments. OFCCP will consider all comments received from the date of publication of the proposed rule through the close of the extended comment period.

DATES: The comment period for the NPRM published on August 8, 2014, scheduled to close on November 6, 2014, is extended until January 5, 2015.

ADDRESSES: You may submit comments, identified by RIN 1250-AA03, by any of the following methods:

• Federal eRulemaking Portal: www.regulations.gov. Follow the instructions for submitting comments.

• Fax: (202) 693-1304 (for comments of six pages or fewer).

• Mail: Debra A. Carr, Director, Division of Policy, Planning, and Program Development, Office of Federal Contract Compliance Programs, Room C-3325, 200 Constitution Avenue NW., Washington, DC 20210.

FOR FURTHER INFORMATION CONTACT: Debra A. Carr, Director, Division of Policy, Planning, and Program Development, Office of Federal Contract Compliance Programs, Room C-3325, 200 Constitution Avenue NW., Washington, DC 20210. Telephone: (202) 693-0103.

SUPPLEMENTARY INFORMATION: On August 8, 2014, OFCCP published a proposed rule entitled “Government Contractors, Requirement to Report Summary Compensation Data on Employee Compensation” (79 FR 46562). OFCCP was to receive comments on this NPRM on or before November 6, 2014.

OFCCP, after considering a request to extend the comment period by an additional ninety (90) days, determined that it is appropriate to provide an additional 60-day period for comment on the proposed regulation.

OFCCP is aware that multiple associations and organizations are conducting surveys of their membership to gather information relevant to the proposals and analysis in the NPRM. These surveys, in some instances, may not be concluded and their results tabulated during the initial 90-day comment period. In addition, the NPRM contained numerous references to reports, studies, articles or books, all of which are publically available. One of these references, though available, may be more difficult to obtain than the others. Therefore, upon request, OFCCP will make the NPRM references available for review during normal business hours at the Office of Federal Contract Compliance Programs, Room C-3325, 200 Constitution Avenue NW., Washington, DC 20210. To schedule an appointment to review the references, please contact OFCCP at the telephone numbers listed above.

Extension of Comment Period

OFCCP determined that the public would benefit from additional time to review the potential impact of the proposed requirements. Therefore, to allow the public sufficient time to review and comment on the NPRM, OFCCP is extending the comment period until January 5, 2015.

Signed in Washington, DC, this 30th date of October 2014.
Patricia Shiu,
Director, Office of Federal Contract Compliance Programs.

[FR Doc. 2014-26223 Filed 11-4-14; 8:45 am]

BILLING CODE 4510-CM-P